DEPARTMENT OF HOMELAND SECURITY

Coast Guard

33 CFR Part 165

[Docket No. USCG-2012-1036]

Safety Zones, Recurring Marine Events in Captain of the Port Long Island Sound Zone

AGENCY: Coast Guard, DHS.

ACTION: Notice of enforcement of regulation.

SUMMARY: The Coast Guard will enforce ten safety zones for fireworks displays in the Sector Long Island Sound area of responsibility on the date and time listed in the table below. This action is necessary to provide for the safety of life on navigable waterways during the events. During the enforcement periods, no person or vessel may enter the safety zones without permission of the Captain of the Port (COTP) Sector Long Island Sound or designated representative.

DATES: The regulation in 33 CFR 165.151 Table 1 will be enforced during the dates and times listed in the table in SUPPLEMENTARY INFORMATION.

FOR FURTHER INFORMATION CONTACT: If you have questions on this notice, call or email Petty Officer Katherine Linnick, Waterways Management Division, U.S. Coast Guard Sector Long Island Sound; telephone 203-468-4565, email Katherine.E.Linnick@uscg.mil.

SUPPLEMENTARY INFORMATION: The Coast Guard will enforce the safety zones listed in 33 CFR 165.151 Table 1 on the specified dates and times indicated below.

Under the provisions of 33 CFR 165.151, the fireworks displays listed below are established as safety zones. During the enforcement period, persons and vessels are prohibited from entering into, transiting through, mooring, or anchoring within these safety zones unless they receive permission from the COTP or designated representative.

6.1 Barnum Festival Fireworks | • Date: June 24, 2017. • Rain Date: June 25, 2017.
| • Time: 8:30 p.m. to 10:30 p.m. • Location: Waters of Bridgeport Harbor, Bridgeport, CT in approximate position 41°9′04″ N., 073°12′49″ W. (NAD 83).
6.3 Vietnam Veterans/Town of East Haven Fireworks | • Date: June 24, 2017. • Rain Date: June 26, 2017.
| • Time: 9:00 p.m. to 11:00 p.m. • Location: Waters off Cosey Beach, East Haven, CT in approximate position 41°14′19″ N., 072°52′9.8″ W. (NAD 83).
7.4 Norwalk Fireworks | • Date: July 3, 2017. • Rain Date: July 5, 2017.
| • Time: 8:30 p.m. to 10:30 p.m. • Location: Waters off Calf Pasture Beach, Norwalk, CT in approximate position 41°04′50″ N., 073°23′22″ W. (NAD 83).
7.5 Lawrence Beach Club Fireworks | • Date: July 1, 2017. • Rain Date: July 2, 2017.
| • Time: 9:00 p.m. to 10:30 p.m. • Waters of the Atlantic Ocean off Lawrence Beach Club, Atlantic Beach, NY in approximate position 40°34′42.65″ N., 073°42′56.02″ W. (NAD 83).
7.7 South Hampton Fresh Air Home Fireworks | • Date: June 30, 2017. • Rain Date: July 2, 2017.
| • Time: 8:30 p.m. to 10:30 p.m.
| • Waters of Shinnecock Bay, South Hampton, NY in approximate position 40°51′48″ N., 072°26′30″ W. (NAD 83).
7.7 Westport Police Athletic League Fireworks | • Date: July 3, 2017. • Rain Date: July 5, 2017.
| • Time: 8:45 p.m. to 10:15 p.m. • Waters off Campo Beach, Westport, CT in approximate position 41°06′15″ N., 073°20′57″ W. (NAD 83).
7.27 City of Long Beach Fireworks | • Date: July 7, 2017. • Rain Date: July 8, 2017.
| • Time: 8:30 p.m. to 10:00 p.m. • Location: Waters off Riverside Blvd., City of Long Beach, NY in approximate position 40°34′38.77″ N., 073°39′41.32″ W. (NAD 83).
7.30 Shelter Islands Fireworks | • Date: July 8, 2017. • Rain Date: July 9, 2017.
| • Time: 9:00 p.m. to 11:00 p.m. • Location: Waters of Gardiner Bay, Shelter Island, NY in approximate position 41°04′39.11″ N., 072°22′01.07″ W. (NAD 83).
7.34 Devon Yacht Club Fireworks | • Date: July 1, 2017. • Rain Date: July 2, 2017.
| • Time: 8:45 p.m. to 10:45 p.m. • Location: Waters of Napeague Bay, in Block Island Sound off Amagansett, NY in approximate position 40°59′41.40″ N., 072°06′08.70″ W. (NAD 83).
9.4 The Creek Fireworks | • Date: September 02, 2016. • Rain Date: September 03, 2016.
| • Time: 7:45 p.m. to 9:00 p.m. • Location: Waters of Long Island Sound off the Creek Golf Course, Lattingtown, NY in approximate position 40°54′13″ N., 073°35′58″ W. (NAD 83).

This rule is issued under authority of 33 CFR 165 and 5 U.S.C. 552(a). In addition to this document in the Federal Register, the Coast Guard will provide the maritime community with advance notification of this enforcement period via the Local Notice to Mariners or marine information broadcasts. If the COTP determines that these safety zones need not be enforced for the full duration stated in this notice, a Broadcast Notice to Mariners may be used to grant general permission to enter the regulated area.

Dated: March 13, 2017.
A.E. Tucci,
Captain, U.S. Coast Guard, Captain of the Port Sector Long Island Sound.

[FR Doc. 2017-06093 Filed 3-27-17; 8:45 am]

BILLING CODE 9110-04-P